FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012427.

Title: CMA CGM/APL Panama—USWC Space Charter Agreement.

Parties: CMA CGM, S.A.; APL Co. Pte Ltd; and American President Lines, Ltd.

Filing Party: Draughn B. Arbona, Esq; CMA CGM (America) LLC; 5701 Lake Wright Drive; Norfolk, VA 23502.

Synopsis: The agreement authorizes APL to charter space to CMA CGM in the trade between Panama and the U.S. West Coast.

Agreement No.: 012428.

Title: CMA CGM/ELJSA Asia—USEC Service Space Charter Agreement.

Parties: CMA CGM S.A. and ELJSA Line Joint Service Agreement.

Filing Party: Paul M. Keane, Esq.; Cichanowicz, Callan, Keane & DeMay, LLP; 50 Main Street, Suite 1045; White Plains, NY; 10606.

Synopsis: The Agreement authorizes Evergreen to charter space to CMA CGM in the trade between Asia and the U.S. East Coast.

By Order of the Federal Maritime Commission.
Dated: July 22, 2016.
Rachel E. Dickon,
Assistant Secretary.

[FR Doc. 2016-17803 Filed 7-27-16; 8:45 am]

BILLING CODE 6731-AA-P